U.S.-CHINA ECONOMIC AND SECURITY REVIEW COMMISSION

Notice of Release of the Commission's 2012 Annual Report to Congress

Advisory Committee: U.S.-China Economic and Security Review Commission.

ACTION: Notice of Official Public Release of the Commission's 2012 Annual Report to Congress on November 14, 2012.

SUMMARY: Notice is hereby given of a meeting of the U.S.-China Economic and Security Review Commission.

Name: Dennis C. Shea, Chairman of the U.S.-China Economic and Security Review Commission.

The Commission is mandated by Congress to investigate, assess, evaluate and report to Congress annually on the U.S.-China economic and security relationship. The mandate specifically charges the Commission to prepare a report to Congress “regarding the national security implications and impact of the bilateral trade and economic relationship between the United States and the People's Republic of China [that] shall include a full analysis, along with conclusions and recommendations for legislative and administrative actions * * *.”

Purpose of Meeting

Pursuant to this mandate, the Commission will hold an official public conference in Washington, DC to release the 2012 Annual Report on November 14, 2012.

The Commission is subject to the Federal Advisory Committee Act (FACA) with the enactment of the Science, State, Justice, Commerce and Related Agencies Appropriations Act, 2006 that was signed into law on November 22, 2005 (Pub. L. 109-108). In accord with FACA, meetings of the Commission to make decisions concerning the substance and recommendations of its 2012 Annual Report to Congress are open to the public.

Topics Addressed

The Commission's 2012 Annual Report contains the following chapters and sections:

• Executive Summary

○ Key Recommendations for Congress

• Introduction

• Chapter 1: The U.S.-China Trade and Economic Relationship

○ Section 1: Trade and Economics Year in Review

○ Section 2: Chinese State-Owned and State-Controlled Enterprises

○ Section 3: The Evolving U.S.-China Trade & Investment Relationship

• Chapter 2: China's Impact on U.S. Security Interests

○ Section 1: Military and Security Year in Review

○ Section 2: China's Cyber Activities

○ Section 3: China's Nuclear Developments

• Chapter 3: China in Asia

○ Section 1: China and the South China Sea

○ Section 2: China and Taiwan

○ Section 3: China and Hong Kong

• Chapter 4: China's Global Reach

○ Section 1: China and Europe

○ Section 2: China's Demand for and Control of Global Resources

• Chapter 5: Assessing China's Efforts to Become an Innovative Society

• Chapter 6: China's Political Transition

Release Date, Time, And Location (Eastern Daylight Time)

• Wednesday, November 14, 2012 (10:00 a.m.)—Dirksen Senate Office Building, Room 538

ADDRESSES: The Commission's official public conference to release the 2012 Annual Report will be held in the Dirksen Senate Office Building, Room 538. The Dirksen Senate Office Building adjoins the Hart Senate Office Building and can be accessed through entrances on 1st Street and C Street.

Public seating is limited and will be available on a “first-come, first-served” basis. Advanced reservations are not required. All participants must register at the front desk.

FOR FURTHER INFORMATION CONTACT: Gavin Williams, USCC Staff Assistant, U.S.-China Economic and Security Review Commission, 444 North Capitol Street NW., Suite 602, Washington, DC 20001; Phone: (202) 624-1407; Email: gwilliams@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: October 31, 2012.
Michael Danis,
Executive Director, U.S.-China Economic and Security Review Commission.

[FR Doc. 2012-26952 Filed 11-2-12; 8:45 am]

BILLING CODE 1137-00-P